OFFICE OF MANAGEMENT AND BUDGET

2000 List of Designated Federal Entities and Federal Entities

AGENCY: Office of Management and Budget.

ACTION: Notice.

SUMMARY: This notice provides a list of Designated Federal Entities and Federal Entities, as required by the Inspector General Act of 1978 (IG Act), as subsequently amended.

FOR FURTHER INFORMATION CONTACT: Karen Shaffer or Tawana Webb at 202-395-6911, Office of Federal Financial Management, Office of Management and Budget.

SUPPLEMENTARY INFORMATION: This notice provides a copy of the 2000 List of Designated Federal Entities and Federal Entities, which the Office of Management and Budget (OMB) is required to publish annually under the IG Act. This list is also posted on the Inspector General Community's website, IGNET, at http://www.ignet.gov.

The List is divided into two groups: Designated Federal Entities and Federal Entities. The Designated Federal Entities are required to establish and maintain Offices of Inspector General. The Designated Federal Entities are listed in the IG Act, except that those agencies which have ceased to exist have been deleted from the list.

Federal Entities are required to report annually to each House of the Congress and OMB on audit and investigative activities in their organizations. Federal Entities are defined as “any Government corporation (within the meaning of section 103 (1) of title 5, United States Code), any Government controlled corporation (within the meaning of section 103 (2) of such title), or any other entity in the Executive Branch of government, or any independent regulatory agency” other than the Executive Office of the President and agencies with statutory Inspectors General. There are 2 deletions and no additions in the 2000 list of Designated Federal Entities and Federal Entities from the 1999 list published in the August 19, 1999, Federal Register. The Denali Commission was transferred to the Designated Federal Entities list.

The 2000 List of Designated Federal Entities and Federal Entities was prepared in consultation with the U.S. General Accounting Office.

Joshua Gotbaum,
Executive Associate Director and Controller, Office of Federal Financial Management.

Herein follows the text of the 2000 List of Designated Federal Entities and Federal Entities:

2000 List of Designated Federal Entities and Federal Entities

The Inspector General Act of 1978, as subsequently amended, requires OMB to publish a list of “Designated Federal Entities” and “Federal Entities” and the heads of such entities. Designated Federal Entities were required to establish Offices of Inspector General before April 17, 1989. Federal Entities are required to report annually to each House of the Congress and the Office of Management and Budget on audit and investigative activities in their organizations.

Designated Federal Entities and Entity Heads

1. Amtrak—President

2. Appalachian Regional Commission—Federal Co-Chairperson

3. The Board of Governors, Federal Reserve System—Chairperson

4. Commodity Futures Trading Commission—Chairperson

5. Consumer Product Safety Commission—Chairperson

6. Corporation for Public Broadcasting—Board of Directors

7. Denali Commission—Chairperson

8. Equal Employment Opportunity Commission—Chairperson

9. Farm Credit Administration—Chairperson

10. Federal Communications Commission—Chairperson

11. Federal Election Commission—Chairperson

12. Federal Housing Finance Board—Chairperson

13. Federal Labor Relations Authority—Chairperson

14. Federal Maritime Commission—Chairperson

15. Federal Trade Commission—Chairperson

16. Legal Services Corporation—Board of Directors

17. National Archives and Records Administration—Archivist of the United States

18. National Credit Union Administration—Chairperson

19. National Endowment for the Arts—Chairperson

20. National Endowment for the Humanities—Chairperson

21. National Labor Relations Board—Chairperson

22. National Science Foundation—National Science Board

23. Peace Corps—Director

24. Pension Benefit Guaranty Corporation—Chairperson

25. Securities and Exchange Commission—Chairperson

26. Smithsonian Institution—Secretary

27. Tennessee Valley Authority—Board of Directors

28. United States International Trade Commission—Chairperson

29. United States Postal Service—Governors of the Postal Service

Federal Entities and Entity Heads

1. Advisory Council on Historic Preservation—Chairperson

2. African Development Foundation—Chairperson

3. American Battle Monuments Commission—Chairperson

4. Architectural and Transportation Barriers Compliance Board—Chairperson

5. Armed Forces Retirement Home—Board of Directors

6. Barry Goldwater Scholarship and Excellence in Education Foundation—Chairperson

7. Chemical Safety and Hazard Investigation Board—Chairperson

8. Christopher Columbus Fellowship Foundation—Chairperson

9. Commission for the Preservation of America's Heritage Abroad—Chairperson

10. Commission of Fine Arts—Chairperson

11. Commission on Civil Rights—Chairperson

12. Committee for Purchase from People Who Are Blind or Severely Disabled—Chairperson

13. Court of Appeals for Veterans Claims—Chief Judge

14. Defense Nuclear Facilities Safety Board—Chairperson

15. Export-Import Bank—President and Chairperson

16. Farm Credit System Financial Assistance Corporation—Chairperson

17. Farm Credit System Insurance Corporation—Chairperson

18. Federal Financial Institutions Examination Council Appraisal Subcommittee—Chairperson

19. Federal Mediation and Conciliation Service—Director

20. Federal Mine Safety and Health Review Commission—Chairperson

21. Federal Retirement Thrift Investment Board—Executive Director

22. Harry S. Truman Scholarship Foundation—Chairperson

23. Institute of American Indian and Alaska Native Culture and Arts Development—Chairperson

24. Institute of Museum and Library Services—Director

25. Inter-American Foundation—Chairperson

26. James Madison Memorial Fellowship Foundation—Chairperson

27. Japan-U.S. Friendship Commission—Chairperson

28. Marine Mammal Commission—Chairperson

29. Merit Systems Protection Board—Chairperson

30. Morris K. Udall Scholarship and Excellence in National Environmental Policy Foundation—Chairperson

31. National Capital Planning Commission—Chairperson

32. National Commission on Libraries and Information Science—Chairperson

33. National Council on Disability—Chairperson

34. National Education Goals Panel—Chairperson

35. National Mediation Board—Chairperson

36. National Transportation Safety Board—Chairperson

37. Neighborhood Reinvestment Corporation—Chairperson

38. Nuclear Waste Technical Review Board—Chairperson

39. Occupational Safety and Health Review Commission—Chairperson

40. Office of Government Ethics—Director

41. Office of Navajo and Hopi Indian Relocation—Chairperson

42. Office of Special Counsel—Special Counsel

43. Offices of Independent Counsel—Independent Counsels

44. Overseas Private Investment Corporation—Board of Directors

45. Postal Rate Commission—Chairperson

46. Presidio Trust—Chairperson

47. Selective Service System—Director

48. Smithsonian Institution/John F. Kennedy Center for the Performing Arts—Chairperson

49. Smithsonian Institution/National Gallery of Art—President

50. Smithsonian Institution/Woodrow Wilson International Center for Scholars—Director

51. State Justice Institute—Director

52. Trade and Development Agency—Director

53. U.S. Holocaust Memorial Council—Chairperson

54. U.S. Institute of Peace—Chairperson

[FR Doc. 00-15685 Filed 6-20-00; 8:45 am]

BILLING CODE 3110-01-P